DEPARTMENT OF ENERGY

Federal Energy Regulatory Commission

[Project No. 382-026 and Project No. 178-017]

Southern California Edison Company and Pacific Gas & Electric Company; Notice of Availability of Draft Environmental Assessment

March 22, 2005.

In accordance with the National Environmental Policy Act of 1969 and the Federal Energy Regulatory Commission's (Commission) regulations, 18 CFR Part 380 (Order No. 486, 52 FR 47897), the Office of Energy Projects has reviewed the applications for license for the Borel Hydroelectric Project (P-382-026) and Kern Canyon Hydroelectric Project (P-178-017) and has prepared a Draft Environmental Assessment (DEA) for the projects. The Borel Hydroelectric Project is located on the Kern River near the town of Bodfish in Kern County, California. The canal intake for the project is located on approximately 188 acres of Sequoia National Forest Service lands. The Kern Canyon Hydroelectric Project is located on the Kern River, near the Town of Bakersfield in Kern County, California. The project occupies approximately 11.26 acres of public land located within the Sequoia National Forest.

The DEA contains the Staff's analysis of the potential environmental impacts of the projects and concludes that licensing the projects, with appropriate environmental protective measures, would not constitute a major federal action that would significantly affect the quality of the human environment.

A copy of the DEA is on file with the Commission and is available for public inspection. The DEA is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

Any comments should be filed within 45 days from the issuance date of this notice and should be addressed to the Secretary, Federal Energy Regulatory Commission, 888 First Street, NE., Room 1-A, Washington, DC 20426. Please affix “Borel Hydroelectric Project No. 382-026” and/or “Kern Canyon Hydroelectric Project No. 178-017” to all comments. Comments may be filed electronically via the internet in lieu of paper. The Commission strongly encourages electronic filings. See 18 CFR 385.2001(a)(1)(iii) and the instructions on the Commission's Web site under the “e-filing” link. For further information, contact Emily Carter at (202) 502-6512 or emily.carter@ferc.gov.

Magalie R. Salas,
Secretary.

[FR Doc. E5-1418 Filed 3-30-05; 8:45 am]

BILLING CODE 6717-01-P